DEPARTMENT OF COMMERCE

Foreign-Trade Zones Board

[Docket 7-2010]

Foreign-Trade Zone 123 - Denver, Colorado, Application for Subzone, Vestas Nacelles America, Inc. (Wind Turbine Nacelles, Hubs, Blades and Towers), Brighton, Denver, Pueblo, and Windsor, Colorado

An application has been submitted to the Foreign-Trade Zones Board (the Board) by the City and County of Denver, grantee of FTZ 123, requesting special-purpose subzone status for the wind turbine nacelle, hub, blade and tower manufacturing and warehousing facilities of Vestas Nacelles America, Inc. (and related entities) (Vestas) located in Brighton, Denver, Pueblo, and Windsor, Colorado. The application was submitted pursuant to the provisions of the Foreign-Trade Zones Act, as amended (19 U.S.C. 81a-81u), and the regulations of the Board (15 CFR part 400). It was formally filed on January 25, 2010.

The Vestas facilities (2,500 employees) consist of four sites: Site 1 - manufacturing plant and warehouse nacelles, hubs and blades (664,000 sq.ft./299.1 acres) located at 1500 East Crown Prince Boulevard, Brighton, Colorado; Site 2 - manufacturing plant blades (400,000 sq.ft./80.78 acres) located at 11140 Eastman Park Drive, Windsor, Colorado; Site 3 - manufacturing plant towers (651,000 sq.ft./811 acres) located at 100 Tower Drive, Pueblo; and, Site 4 - warehouse wind turbine components (119,983 sq.ft./5.6 acres) located at 5175 Joliet Street, Denver, Colorado. Activity to be conducted under FTZ procedures would include manufacturing, testing, packaging and warehousing of wind turbines and related parts (up to 1,560 nacelles and hubs, 4,200 blades, and 1,100 towers annually) for the U.S. market and export. Foreign-origin components (representing up to 50% of total material inputs, by value) that would be used in the manufacturing activity would include grease, oils, epoxy/resins, paint, filler, sealant tape, adhesives, self-adhesive plates/sheets/film of plastics, gaskets/washers/seals of plastics, dampeners, balsa/birch kits, plywood, boxes and pallets of wood, glass fiber roving and yarn, steel columns/posts/pillars/towers, lattice masts, wire and cable, fasteners, aluminum cloth/grill/mesh, root joints, slewing rings, blade bearings, transport fixtures (of steel), rope, brackets, fittings, flanges, base metal mountings, tubes, pipes, doors/gates, linear-acting cylinders, electrical equipment, motors, generators, batteries, profile projectors and parts, ducts, clamps, roller chain, control valves, gears, transmission shafts, flywheels, pulleys, springs, pumps, air/water coolers, filters, balancing weights, plates, controllers, accumulators, bearings, housings, brake parts, heaters, measuring instruments, and wind vanes (duty rate range: free - 13.6%). The application indicates that Vestas will admit all foreign-origin components “classified within textile import categories” to the proposed subzone under privileged foreign status (19 CFR § 146.41).

FTZ procedures could exempt Vestas from customs duty payments on the foreign components and materials used in export production (about 25% of annual shipments). On domestic shipments, the company would be able to elect the duty rate that applies to finished wind turbine nacelles, hubs, blades and towers (duty free) for the foreign production inputs noted above. Vestas would also be exempt from duty payments on any foreign-origin inputs that become scrap or waste during manufacturing. Subzone status would further allow Vestas to realize logistical benefits through the use of weekly customs entry procedures. The application indicates that the savings from FTZ procedures would help improve the facilities' international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is April 5, 2010. Rebuttal comments in response to material submitted during the foregoing period may be submitted during the subsequent 15-day period to April 19, 2010.

A copy of the application will be available for public inspection at the Office of the Foreign-Trade Zones Board's Executive Secretary at the address listed above and in the “Reading Room” section of the Board's website, which is accessible via www.trade.gov/ftz. For further information, contact Pierre Duy at Pierre.Duy@trade.gov or (202) 482-1378.

Dated: January 25, 2010.
Andrew McGilvray,
Executive Secretary.

[FR Doc. 2010-2178 Filed 2-1-10; 8:45 am]

BILLING CODE 3510-DS-S